DEPARTMENT OF DEFENSE

Department of the Army; Corps of Engineers

The Release of the Draft Environmental Impact Statement and the Announcement of a Public Hearing for the Figure Eight Island Inlet and Shoreline Management Project, on Figure Eight Island, New Hanover County, NC

AGENCY: Department of the Army, U.S. Army Corps of Engineers, DoD.

ACTION: Notice of Availability.

SUMMARY: The U.S. Army Corps of Engineers (COE), Wilmington District, Wilmington Regulatory Field Office has received a request for Department of the Army authorization, pursuant to Section 404 of the Clean Water Act and Section 10 of the Rivers and Harbors Act, from Figure Eight Beach Homeowners' Association (HOA) to install a terminal groin structure along Rich Inlet and to conduct a supplemental beach nourishment on approximately 2.0 miles of oceanfront beach and 1,800 linear feet of back barrier shoreline to protect residential homes and infrastructures along the central and northern sections of Figure Eight Island. The terminal groin structure will be placed perpendicular on the northern tip of the island along the shoulder of Rich Inlet; and the proposed source of the material for the nourishment will be dredged from Nixon Channel, a back barrier channel. In case the quantity of material from Nixon Channel is not sufficient, material pumped from (3) nearby upland disposal islands will be used to supplement the nourishment needs. The majority of the material will be disposed within the fillet area, or down shore, of the groin. Pending storm events and shoreline changes, maintenance, or periodic nourishment, of the beach is proposed a maximum of once every five years. Nixon Channel and the upland disposal islands are the proposed material sources for the periodic maintenance, or renourishment, events.

DATES: The Public Hearing will be held at Ogden Elementary School Assembly Hall located at 3637 Middle Sound Loop Road, on June 7, 2012 at 6:30 p.m. Written comments on the Draft EIS and the proposed project must be received at (see ADDRESSES) no later than 5 p.m. on June 22, 2012.

ADDRESSES: Copies of comments and questions regarding the Draft EIS may be addressed to: U.S. Army Corps of Engineers, Wilmington District, Regulatory Division. ATTN: File Number 2006-41158, 69 Darlington Avenue, Wilmington, NC 28403. Copies of the Draft EIS can be reviewed, after it's posting on May 23, 2012, on the Corps homepage at, http://www.saw.usace.army.mil/WETLANDS/Projects/index.html, under Figure Eight Island Inlet and Shoreline Management Project.

FOR FURTHER INFORMATION CONTACT: Questions about the proposed action and DEIS and/or to receive CD or written copies of the Draft EIS can be directed to Mr. Mickey Sugg, Wilmington Regulatory Field Office, telephone: (910) 251-4811.

SUPPLEMENTARY INFORMATION:

1. Project Purpose and Need. Figure Eight Beach HOA has addressed the continuing oceanfront erosion problems associated with Rich Inlet and Nixon Channel erosion hot-spot on the estuarine side of the island over the past several decades. Past actions to protect the shorelines have provided some protection, however they are seeking a longer term solution to handle shoreline erosion in order to protect the island's $1,189,810,926 (based on the 2007 reappraisal) assessed property tax value. Their stated needs of the project are the following: (1) Reduce erosion along approximately 2.0 miles of oceanfront and 0.34 miles of back barrier shorelines, (2) Provide short-term protection to imminently threatened residential structures over the next five years, (3) Provide long-term protection to homes and infrastructure over the next 30 years, (4) Maintain the tax value of homes, properties, and infrastructure, (5) Use beach compatible material, (6) Maintain navigation conditions within Rich Inlet and Nixon Channel, (7) Maintain recreational resources, and (8) Balance the needs of the human environment with the protection of existing natural resources.

2. Proposed Action. Within the Town's preferred alternative, the installation of the terminal groin is the main component in the protection of the oceanfront shoreline. The location of the structure will be just north of the existing homes along the shoulder of Rich Inlet. Its total length is approximately 1,600 feet, which approximately 700 feet will project seaward of the existing mean high water shoreline. The landward 900-foot anchor section would extend across the island and terminate near the Nixon Channel Shoreline. This section will be constructed of 14,000 to 18,000 square feet of sheet pile wrapped with rock. Although engineering design plans are not finalized, basic construction design of the seaward 700-foot part of the structure will be in the form of a typical rubble (rock) mound feature supported by a 1.5-foot thick stone foundation blanket. Crest height or elevation of this section is estimated to be +6.0 feet NAVD for the first 400 feet and would slope to a top elevation of +3.0 feet NAVD on the seaward end. Approximately 16,000 tons of stone would be used to construct the terminal groin. The concept design of the structure is intended to allow littoral sand transport to move over, around, and through the groin once the accretion fillet has completely filled in.

Construction of the terminal groin will be kept within a corridor varying in width from 100 feet to 200 feet. Within this corridor, a 40-70 foot wide trench will be excavated to a depth of −2.5 feet NAVD in order to construct the foundation of the landward section. The approximate 6,000 cubic yards of excavated material will be replaced on and around the structure once it's in place. Material used to build the groin will be barged down the Atlantic Intracoastal Waterway (AIWW), through Nixon Channel, and either offloaded onto a temporary loading dock or directly onto shore. It will then be transported, via dump trucks, within the designated corridor to the construction site.

Material used for nourishment will be dredged, using a hydraulic cutterhead plant, from a designated borrow site within Nixon Channel, which has been previously used for beach fill needs. Approximately 289,800 cubic yards will be required for both the oceanfront (224,800 cubic yards) and the Nixon Channel shoreline (65,000 cubic yards) fill areas. Beach compatible material from (3) upland disposal islands would serve as a contingency sediment source.

Engineer modeling results have shown that periodic nourishment will be required approximately once every five years to maintain the beach and Nixon Channel shorelines. The combined estimated maintenance needs for both areas are 175,800 cubic yards of material every five years, equivalent to approximately 35,200 cubic yards per year. This material will come from the designated Nixon Channel borrow site and the (3) upland disposal areas.

3. Alternatives. Several alternatives have been identified and evaluated through the scoping process, and further detailed description of all alternatives is disclosed in Section 3.0 of the Draft EIS. The applicant's preferred alternative, Alternative 5B, is to install a terminal groin structure, to conduct initial supplemental beach nourishment, and to implement a periodic beach nourishment plan over a 30-year period.

4. Scoping Process. A public scoping meeting was held on March 1, 2007 and a Project Delivery Team (PDT) was developed to provide input in the preparation of the EIS. The PDT comprised of local, state, and federal government officials, local residents and nonprofit organizations.

The COE is consulting with the U.S. Fish and Wildlife Service under the Endangered Species Act and the Fish and Wildlife Coordination Act, and with the National Marine Fisheries Service under the Magnuson-Stevens Act and Endangered Species Act. Additionally, the EIS assesses the potential water quality impacts pursuant to Section 401 of the Clean Water Act, and is coordinated with the North Carolina Division of Coastal Management (DCM) to insure the projects consistency with the Coastal Zone Management Act. The COE is coordinating closely with DCM in the development of the EIS to ensure the process complies with State Environmental Policy Act (SEPA) requirements, as well as the NEPA requirements. The Draft EIS has been designed to consolidate both NEPA and SEPA processes to eliminate duplications.

Brenda S. Bowen,
Army Federal Register Liaison Officer.

[FR Doc. 2012-12048 Filed 5-17-12; 8:45 am]

BILLING CODE 3720-58-P